DEPARTMENT OF THE INTERIOR

National Park Service

[NPS-WASO-NAGPRA-NPS0029885; PPWOCRADN0-PCU00RP14.R50000]

Notice of Intent To Repatriate Cultural Items: U.S. Department of Agriculture, Forest Service, Tongass National Forest, Petersburg, AK

AGENCY: National Park Service, Interior.

ACTION: Notice.

SUMMARY: The U.S. Department of Agriculture, Forest Service, Tongass National Forest, in consultation with the appropriate Indian Tribes or Native Hawaiian organizations, has determined that the cultural items listed in this notice meet the definition of unassociated funerary objects. Lineal descendants or representatives of any Indian Tribe or Native Hawaiian organization not identified in this notice that wish to claim these cultural items should submit a written request to Tongass National Forest. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Tongass National Forest at the address in this notice by April 22, 2020.

ADDRESSES: Earl Stewart, Forest Supervisor, Tongass National Forest, Federal Building, 648 Mission Street, Ketchikan, AK 99901, telephone (907) 228-6289, email earl.stewart@usda.gov.

SUPPLEMENTARY INFORMATION: Notice is here given in accordance with the Native American Graves Protection and Repatriation Act (NAGPRA), 25 U.S.C. 3005, of the intent to repatriate cultural items under the control of the U.S. Department of Agriculture, Forest Service, Tongass National Forest, Ketchikan, AK, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In or around the early 1900's, one cultural item described as a “necklace” and consisting of a total of 48 component parts was removed from a gravesite in Kah Sheets Bay near Petersburg, AK. The item was discovered after a tree was felled and inside the base of the tree was an ÍXT' (Shaman) grave. The parties cutting down the tree are reported to have divided the grave goods. The unassociated funerary object is an “ÍXT' necklace” that Emily Merriam received from Alma Zuver, the wife of Alvah Zuver (one of the parties felling the tree). The Zuvers had special use permits from the Tongass National Forest for fur farming activities in the general vicinity of the area. Emily Merriam gifted the necklace to the Clausen Memorial Museum in 1981. In November 2018, the Clausen Memorial Museum contacted the Tongass National Forest for assistance regarding the necklace, whereupon it was determined that the necklace had been collected from Federal lands, and was identified as an unassociated funerary object. The locations of other funerary objects or the human remains relating to this object are unknown. The object remains in the care of the Clausen Memorial Museum, under a temporary loan agreement with the Tongass National Forest, pending repatriation. The unassociated funerary object is described as a “Shaman's Necklace” but more appropriately is a necklace of an ÍXT' consisting of 48 individual components: 33 ground, polished and carved elongated bone pendants; nine pieces of bear and sea mammal teeth (comprising eight teeth); four decorative bone pieces; one claw; and one copper knife. Four of the teeth are carved. One tooth bears the image of a sea lion, a second tooth bears an unidentifiable image, a third tooth bears linear incisions and dots, and a fourth tooth is comprised of two pieces bearing mirror-images of killer whales. Of the decorative bone pieces, one (a bone fragment) bears an oystercatcher carving, a second (a flat bone) bears a carving of a supernatural being and fish, fin, man, and octopus carvings, and a third (a flat bone) bears a halibut carving. The fourth piece (an elongated flat bone carved with a basketry replication design) is bent. Presumably, it served as the back of the necklace. The flat, copper knife bears a shark design and a small drill hole. All but two pieces have a small drilled hole, and have been strung on a string which is not original to the object.

Kah Sheets Bay lies in the traditional territory of the Stikine/Wrangell Tlingit, and is associated with the Petersburg Indian Association and the Wrangell Cooperative Associations. According to Goldschmidt and Haas (1946), the Kaach.adi traditionally lived/used the bay. Kaach.adi people come from the Stikine and the Kake traditional territories.

On October 29, 2018 the Tongass National Forest initiated consultation on the necklace with the Wrangell Cooperative Association, the Petersburg Indian Association and the Organized Village of Kake. Government-to-government consultation with the Organized Village of Kake and the Petersburg Indian Association occurred between November 2, 2018 and August 19, 2019. Consultation begun on November 2, 2018 with the Wrangell Cooperative Association ended on February 22, 2019, when the Association officially ended its participation.

Government-to-government consultation with the Organized Village of Kake and the Petersburg Indian Association resulted in unanimous agreement that both tribal entities are culturally affiliated with the ÍXT' necklace and a joint repatriation request.

Determinations Made by the U.S. Department of Agriculture, Forest Service, Tongass National Forest

Officials of the U.S. Department of Agriculture, Forest Service, Tongass National Forest have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and the Petersburg Indian Association and the Organized Village of Kake (hereafter referred to as “The Tribes”).

Additional Requestors and Disposition

Lineal descendants or representatives of any Indian Tribe or Native Hawaiian organization not identified in this notice that wish to claim these cultural items should submit a written request with information in support of the claim to Earl Stewart, Forest Supervisor, Tongass National Forest, Federal Building, 648 Mission Street, Ketchikan, AK 99901, telephone (907) 228-6289, email earl.stewart@usda.gov, by April 22, 2020. After that date, if no additional claimants have come forward, transfer of control of the unassociated funerary object to The Tribes may proceed.

The U.S. Department of Agriculture, Forest Service, Tongass National Forest is responsible for notifying The Tribes that this notice has been published.

Dated: February 19, 2020.
Melanie O'Brien,
Manager, National NAGPRA Program.

[FR Doc. 2020-06037 Filed 3-20-20; 8:45 am]

BILLING CODE 4312-52-P